DEPARTMENT OF HOMELAND SECURITY

Federal Emergency Management Agency

44 CFR Part 67

[Docket No. FEMA-D-7584]

Proposed Flood Elevation Determinations

AGENCY: Federal Emergency Management Agency (FEMA), Emergency Preparedness and Response Directorate, Department of Homeland Security.

ACTION: Proposed rule.

SUMMARY: Technical information or comments are requested on the proposed Base (1% annual chance) Flood Elevations (BFEs) and proposed BFE modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Emergency Preparedness and Response Directorate, FEMA, 500 C Street, SW., Washington, DC 20472, (202) 646-2903.

SUPPLEMENTARY INFORMATION: FEMA proposes to make determinations of BFEs and modified BFEs for each community listed below, in accordance with section 110 of the Flood Disaster Protection Act of 1973, 42 U.S.C. 4104, and 44 CFR 67.4(a).

These proposed base flood and modified BFEs, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act

This proposed rule is categorically excluded from the requirements of 44 CFR part 10, Environmental Consideration. No environmental impact assessment has been prepared.

Regulatory Flexibility Act

The Mitigation Division Director of the Emergency Preparedness and Response Directorate certifies that this proposed rule is exempt from the requirements of the Regulatory Flexibility Act because proposed or modified BFEs are required by the Flood Disaster Protection Act of 1973, 42 U.S.C. 4105, and are required to establish and maintain community eligibility in the NFIP. As a result, a regulatory flexibility analysis has not been prepared.

Regulatory Classification

This proposed rule is not a significant regulatory action under the criteria of Section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of Section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding | Location | # Depth in feet above ground. * Elevation in feet (NGVD) • Elevation in feet (NAVD): Existing | # Depth in feet above ground. * Elevation in feet (NGVD) • Elevation in feet (NAVD): Modified | Communities affected
FLORIDA
Leon County
East Drainage Ditch | Approximately 0.6 mile upstream of the confluence with Monson Slough | *41 | *40 | Leon County (Unincorporated Areas), City of Tallahassee.
| Approximately 800 feet upstream of Apakin Nene Road | None | *142 |
West Drainage Ditch | From Mabry Street | *54 | *53 | Leon County (Unincorporated Areas), City of Tallahassee.
| Approximately 50 feet upstream of New Quincy Highway | *62 | *61 |
Gum Creek | At the confluence with West Drainage Ditch | *60 | *55 | Leon County (Unincorporated Areas), City of Tallahassee.
| At the confluence with North Branch Gum Creek | *60 | *58
North Branch Gum Creek | At the confluence with Gum Creek | *60 | *58 | Leon County (Unincorporated Areas).
| At Gum Road | *60 | *59 |
West Branch Gum Creek | At the confluence with Gum Creek | *60 | *58 | Leon County (Unincorporated Areas).
| Just upstream of CSX Transportation | *60 | *59
Leon County (Unincorporated Areas)
Maps available for inspection at the Leon County Courthouse, 301 South Monroe Street, Tallahassee, Florida.
Send comments to Mr. Parwez Alam, Leon County Administrator, 301 South Monroe Street, Tallahassee, Florida 32301.
City of Tallahassee
Maps available for inspection at the Tallahassee City Hall, 300 South Adams Street, Tallahassee, Florida.
Send comments to The Honorable John Marks, Mayor of the City of Tallahassee, 300 South Adams Street, Tallahassee, Florida 32301-1731.
KENTUCKY
Pendleton County
Ohio River | Approximately 475 feet downstream of the downstream county boundary | None | *506 | Pendleton County (unincorporated Areas).
| Approximately 425 feet upstream of the upstream county boundary | None | *506 |
Licking River | At the confluence of Grassy Creek | None | *530 | Pendleton County (Unincor­porated Areas).
| Approximately 1.09 miles upstream of State Route 22 | None | *556 |
South Fork Licking River | At the confluence with Licking River | None | *555 | Pendleton County (Unincorporated Areas).
| Approximately 1.32 miles upstream of U.S. Route 27 | None | 8559 |
Pendleton County (Unincorporated Areas)
Maps available for inspection at the Pendleton County Judge's Office, 233 Main Street, Falmouth, Kentucky.
Send comments to The Honorable Henry Bertram, Pendleton County Judge Executive, 233 Main Street, Falmouth, Kentucky 41041.
NORTH CAROLINA
Bladen County
Saespan Branch | Approximately 600 feet downstream of the Bladen/Columbus County boundary | None | •58 | Bladen County (Unincorporated Areas).
| At the Bladen/Columbus County boundary | None | •59
Bladen County (Unincorporated Areas)
Maps available for inspection at the Bladen County Courthouse, 106 East Broad Street, #106, Elizabethtown, North Carolina.
Send comments to Mr. Gregory Martin, Bladen County Manager, P.O. Box 1048, Elizabethtown, North Carolina 28337.
NORTH CAROLINA
Camden County
Areneuse Creek | At the upstream side of NC 343 | None | •6 | Camden County (Unincorporated Areas).
| Approximately 150 feet downstream of Smith Corner Road | None | •6 |
Joyce Creek | At the confluence with Dismal Swamp Canal | None | •6 | Camden County (Unincorporated Areas).
| Approximately 100 feet upstream of Keeter Barn Road | None | •9 |
Tributary 1 | At the confluence with Joyce Creek | None | * 7 | Camden County (Unincorporated Areas).
| Approximately 1.8 miles upstream of the confluence with Joyce Creek | None | •8
Mill Dam Creek | At NC 343 | None | •6 | Camden County (Unincorporated Areas).
| Approximately 1.0 mile upstream of Ivy Neck Road | None | •6
Tributary 1 | At the confluence with Mill Dam Creek | None | •6 | Camden County (Unincorporated Areas).
| Approximately 60 feet downstream of NC 343 | None | •6
Tributary 2 | At the confluence with Mill Dam Creek | None | •6 | Camden County (Unincorporated Areas).
| Approximately 0.7 mile upstream of Mercer Drive | None | •7
Tributary 3 | At the confluence with Mill Dam Creek | None | •6 | Camden County (Unincorporated Areas).
| Approximately 0.3 mile upstream of Ivy Neck Road | None | •6
Tributary 4 | At the confluence with Mill Dam Creek | None | •6 | Camden County (Unincorporated Areas).
| Approximately 0.7 mile upstream of Bushell Road | None | •6
Pasquotank River | Approximately 5.9 miles upstream of the confluence of Sawyers Creek | None | •5 | Camden County (Unincorporated Areas).
| Approximately 8.1 miles upstream of Morgans Corner Road | None | •13
Sawyers Creek | At the downstream side of Scotland Road | None | •5 | Camden County (Unincorporated Areas).
| Approximately 0.6 mile upstream of Trafton Road | None | •8
Tributary 2 | At U.S. Highway 158/NC 34 | None | •5 | Camden County (Unincorporated Areas).
| Approximately 1.3 miles upstream of U.S. Highway 158/NC 34 | None | •6
Tributary 3 | At the downstream side of U.S. Highway 158/NC 34 | None | •5 | Camden County (Unincorporated Areas).
| Approximately 0.5 mile upstream of U.S. Highway 158/NC 34 | None | •6
Tributary 4 | At the downstream side of Scotland Road | None | •5 | Camden County (Unincorporated Areas).
| Approximately 1,600 feet upstream of Scotland Road | None | •6
Tributary 5 | At the confluence with Sawyers Creek | None | •5 | Camden County (Unincorporated Areas).
| Approximately 400 feet downstream of Bourbon Street | None | •6
Camden County (unincorporated Areas)
Maps available for inspection at the Camden County Offices, 117 North NC 343, Camden, North Carolina.
Send comments to Mr. Randell Woodruff, Camden County Manager, P.O. Box 190, Camden, North Carolina 27921.
NORTH CAROLINA
Pasquotank County
East Branch Knobbs Creek Tributary | At West Ehringhaus Street | •7 | •8 | City of Elizabeth City, Pasquotank County (Unincorporated Areas).
| Approximately 550 feet upstream of Roanoke Avenue | None | •9
Halls Creek | Approximately 0.5 mile upstream of Halls Creek Road | None | •6 | Pasquotank County (Unincorporated Areas).
| Approximately 0.3 mile upstream of Simpson Ditch Road | None | •9
Halls Creek Tributary 1 | At the confluence with Halls Creek | None | •6 | Pasquotank County (Unincorporated Areas).
| Approximately 2.0 miles upstream of the confluence with Halls Creek | None | •9
Knobbs Creek | At Creek Road | None | •6 | City of Elizabeth City, Pasquotank County (Unincorporated Areas).
| Approximately 0.6 mile upstream of Berea Church Road | None | •7
Tributary | Approximately 0.2 mile upstream of Providence Road | None | •7 | City of Elizabeth City, Pasquotank County (Unincorporated Areas).
| Approximately 0.8 mile upstream of U.S. Highway 17 | None | •9
Little River | Approximately 1.4 miles upstream of U.S. Highway 17 | None | •9 | Pasquotank County (Unincorporated Areas).
| Approximately 2.7 miles upstream of Foreman Bundy Road | None | •10
New Begun Creek | At Florida Road | None | •5 | Pasquotank County (Unincorporated Areas).
| Approximately 250 feet downstream of Pitts Chapel Road | None | •6
Newland Drainage Canal | At the confluence with Pasquotank River | None | •7 | Pasquotank County (Unincorporated Areas).
| Approximately 500 feet downstream of Newland Road | None | •14
Canal Tributary 1 | At the confluence with Newland Drainage Canal | None | •7 | Pasquotank County (Unincorporated Areas).
| Approximately 0.4 mile upstream of Brothers Lane | None | •11
Canal Tributary 1A | At the confluence with Newland Drainage Canal Tributary 1 | None | •7 | Pasquotank County (Unincorporated Areas).
| Approximately 500 feet downstream of Blindman Road | None | •8
Pasquotank River | Approximately 9.1 miles upstream of U.S. Highway 158 | None | •5 | Pasquotank County (Unincorporated Areas).
| Approximately 6.6 miles upstream of the confluence with Newland Drainage Canal | None | •13
Tributary 3 | At the confluence with Pasquotank River | None | •6 | Pasquotank County (Unincorporated Areas).
| Approximately 500 feet downstream of U.S. Highway 17 | None | •10
Symonds Creek | Just upstream of Nixonton Road | None | •5 | Pasquotank County (Unincorporated Areas).
| Approximately 0.4 mile upstream of Nixonton Road | None | •6
Tributary 2 | At the confluence with Symonds Creek | None | •5 | Pasquotank County (Unincorporated Areas).
| Approximately 0.8 mile upstream of the confluence with Symonds Creek | None | •6
City of Elizabeth City
Maps available for inspection at the Elizabeth City Inspections Department, 306 East Colonial Avenue, Elizabeth City, North Carolina.
Send comments to The Honorable Steven Harrell, Mayor of the City of Elizabeth City, P.O. Box 347, Elizabeth City, North Carolina 27907.
Pasquotank County (Unincorporated Areas)
Maps available for inspection at the Pasquotank County Planning Department, 206 East Main Street, 2nd Floor, Elizabeth City, North Carolina.
Send comments to Mr. Randy Keaton, Pasquotank County Manager, P.O. Box 39, Elizabeth City, North Carolina 27907.
NORTH CAROLINA
Robeson County
Aaron Swamp | At the confluence with Horse Swamp | None | •97 | Robeson County (Unincorporated Areas).
| Approximately 2,000 feet upstream of Dew Road | None | •147
Alligator Swamp | Approximately 0.7 mile downstream of Affinity Road | None | •69 | Robeson County (Unincorporated Areas).
| Approximately 2,800 feet upstream of Marietta Road | None | •91
Ashpole Swamp | At the NC/SC State boundary | None | •60 | Robeson County (Unincorporated Areas).
| Approximately 0.42 mile upstream of State Route 710 | None | •155
Tributary 1 | At the confluence with Ashpole Swamp | None | •100 | Robeson County (Unincorporated Areas).
| Approximately 0.8 mile upstream of Butler Road | None | •123
Tributary 2 | At the confluence with Ashpole Swamp | None | •107 | Robeson County (Unincorporated Areas).
| Approximately 100 feet downstream of West Horne Road | None | •113
Tributary 3 | At the confluence with Ashpole Swamp | None | •123 | Robeson County (Unincorporated Areas).
| Approximately 2,100 feet upstream of State Route 710 | None | •143
Tributary 4 | At the confluence with Ashpole Swamp | None | •126 | Robeson County (Unincorporated Areas).
| Approximately 0.45 mile upstream of Bridges Road | None | •141
Bay Branch | At the confluence with Indian Swamp | None | •94 | Robeson County (Unincorporated Areas).
| Approximately 0.63 mile upstream of the confluence with Indian Swamp | None | •100
Bear Swamp | Just upstream of State Route 710 | None | •183 | Robeson County (Unincorporated Areas).
| Approximately 100 feet downstream of WL Moore Woods Road | None | •188
Beaverdam Branch | At the confluence with Little Marsh Swamp | None | •152 | Robeson County (Unincorporated Areas).
| Approximately 2,750 feet upstream of Carolina Church Road | None | •173
Big Branch (near Town of Marietta) | At the confluence with Ashpole Swamp | None | •76 | Robeson County (Unincorporated Areas).
| Approximately 1,800 feet downstream of Shakespeare Road | None | •86
Big Branch (near Town of St. Pauls) | At the confluence with Big Marsh Swamp | None | •142 | Robeson County (Unincorporated Areas).
| Approximately 3,400 feet upstream of CSX Transportation | None | •155
Big Branch Tributary 1 | At the confluence with Big Branch | None | •142 | Robeson County (Unincorporated Areas).
| Approximately 2,800 feet upstream of the confluence with Big Branch | None | •152
Big Branch Tributary 2 | At the confluence with Big Branch | None | •145 | Robeson County (Unincorporated Areas).
| Approximately 50 feet downstream of U.S. Route 301 | None | •156
Big Branch Canal | At the confluence with Lumber River | •91 | •92 | Robeson County (Unincorporated Areas).
| Approximately 1,225 feet upstream of Wilmington Highway | None | •100 |
Big Marsh Swamp | At the confluence with Big Swamp | None | •122 | Robeson County (Unincorporated Areas).
| Approximately 2,200 feet upstream of Balfort Road | None | •188 |
Tributary 1 | At the confluence with Big Marsh Swamp | None | •153 | Robeson County (Unincorporated Areas).
| Approximately 600 feet upstream of Great Marsh Church Road | None | •169
Tributary 2 | At the confluence with Big Marsh Swamp | None | •167 | Robeson County (Unincorporated Areas).
| Approximately 1,400 feet upstream of Pine Street | None | •185
Big Swamp | At the upstream side of Railroad | None | •99 | Robeson County (Unincorporated Areas).
| At the confluence of Big Marsh Swamp and Galberry Swamp | None | •122
Black Branch | At the confluence with Big Marsh Swamp | None | •149 | Robeson County (Unincorporated Areas).
| Approximately 800 feet upstream of State Route 20 | None | •165
Black Branch (near Town of Maxton) | At the confluence with Little Bull Branch | None | •151 | Robeson County (Unincorporated Areas).
| Approximately 0.5 mile upstream of Morrison Road | None | •171
Bogue Swamp | At the confluence with Little Marsh Swamp | None | •161 | Robeson County (Unincorporated Areas).
| Approximately 1,325 feet upstream of State Route 71 | None | •187
Bracey Swamp | At the confluence with Mitchell Swamp | None | •113 | Robeson County (Unincorporated Areas).
| Approximately 250 feet downstream of Bracey Cemetary Road | None | •128
Bryant Swamp | At the confluence with Big Swamp | None | •92 | Robeson County (Unincorporated Areas).
| Approximately 1.0 mile upstream of the confluence with Big Swamp | None | •92
Buckhorn Swamp | At the confluence with Long Branch | None | •149 | Robeson County (Unincorporated Areas).
| Approximately 1.2 miles upstream of State Route 301 | None | •177
Bull Branch | Approximately 0.5 mile upstream of the confluence with Leith Creek | None | •129 | Robeson County (Unincorporated Areas).
| Approximately 1,000 feet upstream of Binyamee Road | None | •175
Burnt Swamp | At the confluence with Richland Swamp | None | •140 | Robeson County (Unincorporated Areas).
| Approximately 0.44 mile upstream of Melinda Road | None | •190
Cold Camp Creek | At the confluence with Galberry Swamp | None | •144 | Robeson County (Unincorporated Areas).
| Approximately 2.2 miles upstream of the confluence of Cold Camp Creek Tributary 2 | None | •165
Collection Canal | Approximately 2,000 feet upstream of the confluence with Jacob Swamp | •114 | •113 | Robeson County (Unincorporated Areas), City of Lumberton.
| At the confluence with Underpass Overland North | •114 | •119
Contrary Swamp | At the confluence with Michell Swamp | None | •111 | Robeson County (Unincorporated Areas).
| Approximately 0.72 mile upstream of Interstate 95 | None | •119
Cotton Mill Branch | At Martin Luther King Jr. Drive | •114 | •116 | Robeson County (Unincorporated Areas), City of Lumberton.
| At the confluence with Underpass Overland South | •115 | •118
Cowford Swamp | At the confluence with McLeod Mill Branch | None | •105 | Robeson County (Unincorporated Areas).
| Approximately 300 feet downstream of Butler Road | None | •121
Cowpen Branch | At the confluence with Ten Mile Swamp | None | •145 | Robeson County (Unincorporated Areas).
| Approximately 2,500 feet upstream of Interstate 95 | None | •149
Cowpen Swamp | Approximately 0.5 mile downstream of Jordache Road | None | •80 | Robeson County (Unincorporated Areas).
| Approximately 1,700 feet upstream of State Line Road | None | •92
Dunn's Marsh Creek | At the confluence with Little Marsh Swamp | None | •155 | Robeson County (Unincorporated Areas), Town of Parkton.
| Approximately 300 feet downstream of Mallory Road | None | •187
Dunn's Marsh Creek | At the confluence with Dunn's Marsh Creek | None | •173 | Robeson County (Unincorporated Areas), Town of Parkton.
Tributary 1 | Approximately 0.56 mile upstream of Barlow Road | None | •186
Tributary 2 | At the confluence with Dunn's Marsh Creek | None | •177 | Robeson County (Unincorporated Areas).
| Approximately 0.35 mile upstream of State Route 71 | None | •183
First Swamp | At the confluence with Wilkinson Creek | None | •129 | Robeson County (Unincorporated Areas).
| Approximately 0.5 mile upstream of Quinn Road | None | •169
Five Mile Branch | At downstream side of Meadow Road | None | •138 | Robeson County (Unincorporated Areas), City of Lumberton.
| Approximately 0.5 mile upstream of Meadow Road | None | •139
Frazier Branch | At the confluence with Shoe Heel Creek | None | •149 | Robeson County (Unincorporated Areas).
| Approximately 600 feet upstream of Fairley Road | None | •174
Fullermore Swamp | At the confluence with Ashpole Swamp | None | •116 | Robeson County (Unincorporated Areas).
| Approximately 1,500 feet upstream of NW Railroad Avenue | None | •139
Tributary | At the confluence with Fullermore Swamp | None | •126 | Robeson County (Unincorporated Areas)
| Approximately 300 feet upstream of State Route 710 | None | •126
Galberry Swamp | At the confluence with Big Swamp | None | •122 | Robeson County (Unincorporated Areas).
| At the confluence with Long Branch and Buckhorn Swamp | None | •149
Gravel Branch | At the confluence with Ten Mile Swamp | None | •123 | Robeson County (Unincorporated Areas).
| At Reagan Church Road | None | •133
Gum Branch | At the confluence with Big Marsh Swamp | None | •152 | Robeson County (Unincorporated Areas).
| Approximately 800 feet upstream of Covington Farm Road | None | •169
Gum Swamp | At the upstream side of CSX Transportation | None | •169 | Robeson County (Unincorporated Areas).
| Approximately 0.47 mile upstream of McNeill Road | None | •219
Hog Swamp | At the confluence with Ashpole Swamp | None | •74 | Robeson County (Unincorporated Areas).
| Approximately 1.9 miles upstream of Pleasant Hope Road | None | •132
Holy Swamp | At the confluence with Raft Swamp | None | •126 | Robeson County (Unincorporated Areas).
| Approximately 0.75 mile upstream of Evergreen Church Road | None | •149
Horn Camp Swamp | At the confluence with Horse Swamp | None | •95 | Robeson County (Unincorporated Areas).
| Approximately 500 feet upstream of Horne Camp Road | None | •115
Horns Millrace | At the confluence with Ashpole Swamp | None | •89 | Robeson County (Unincorporated Areas).
| Approximately 1,300 feet upstream of Farm Lane | None | •131
Horse Branch | At the confluence with Big Marsh Swamp | None | •133 | Robeson County (Unincorporated Areas).
| Approximately 100 feet downstream of East Great Marsh Church Road | None | •144
Horse Swamp | At the confluence with Ashpole Swamp | None | •94 | Robeson County (Unincorporated Areas).
| Approximately 500 feet downstream of CSX Transportation | None | •133
Humphrey Branch | At the confluence with Raft Swamp | None | •148 | Robeson County (Unincorporated Areas).
| Approximately 1.1 miles upstream of the confluence with Raft Swamp | None | •165
Indian Swamp | At the confluence with Coward Swamp | None | •66 | Robeson County (Unincorporated Areas), Town of Proctorville.
| Approximately 0.47 mile upstream of Atkinson Road | None | •109 |
Jackson Swamp | At the confluence with Big Swamp | None | •101 | Robeson County (Unincorporated Areas).
| Approximately 1,400 feet downstream of Judge Road | None | •125
Jacob Diversion | Approximately 0.4 mile downstream of Contempare Drive | •123 | •124 | Robeson County (Unincorporated Areas), City of Lumberton.
| Approximately 0.3 mile upstream of Emery Road | None | •133 |
Jacob Swamp | Approximately 900 feet upstream of the confluence with Lumber River | •106 | •107 | Robeson County (Unincorporated Areas), City of Lumberton.
| Approximately 0.5 miles upstream of Kenny Biggs Road | •123 | •121 |
Jordan Swamp | At the confluence with Gum Swamp | None | •187 | Robeson County (Unincorporated Areas).
| At County boundary | None | •218 |
Jowers Branch | At the confluence with Shoe Heel Creek | None | •159 | Robeson County (Unincorporated Areas).
| Approximately 0.49 mile upstream of Charlie Watt Road | None | •190 |
Juniper Branch | At the confluence with Raft Swamp | None | •170 | Robeson County (Unincorporated Areas).
| Approximately 100 feet downstream of Johnson Road | None | •203 |
Lee's Branch | At the confluence with Ten Mile Swamp | None | •121 | Robeson County (Unincorporated Areas).
| Approximately 1,000 feet upstream of Vester Road | None | •132 |
Leith Creek | At State boundary | None | •125 | Robeson County (Unincorporated Areas).
| At County boundary | None | •126 |
Little Bear Swamp | Approximately 325 feet upstream of the confluence of Bear Swamp | •183 | •185 | Robeson County (Unincorporated Areas).
| Approximately 150 feet upstream of WL Moore Woods Road | None | •188 |
Little Bull Branch | At the confluence with Bull Branch | None | •139 | Robeson County (Unincorporated Areas).
| Approximately 0.5 mile upstream of Bethea Road | None | •169 |
Little Burnt Swamp | At the confluence with Burnt Swamp | None | •163 | Robeson County (Unincorporated Areas).
| Approximately 0.43 mile upstream of Townsends Chapel Road | None | •178 |
Little Hog Swamp | At the confluence with Hog Swamp | None | •106 | Robeson County (Unincorporated Areas).
| Approximately 0.42 mile upstream of Greensville Road | None | •123 |
Little Indian Swamp | At the confluence with Little Indian Swamp | None | •90 | Robeson County (Unincorporated Areas).
| Approximately 400 feet downstream of State Route 130 | None | •97 |
Little Jacob Swamp | Approximately 250 feet downstream of Lovette Road | •114 | •113 | Robeson County (Unincorporated Areas), City of Lumberton.
| Approximately 1,000 feet downstream of Kenny Biggs Road | •123 | •122 |
Little Juniper Branch | At the upstream side of CSX Transportation | None | •170 | Robeson County (Unincorporated Areas).
| Approximately 0.76 mile upstream of Hezekiah Road | None | •186 |
Little Marsh Swamp | At the confluence with Galberry Swamp | None | •131 | Robeson County (Unincorporated Areas), Town of Lumber Bridge.
| At the County boundary | None | •191 |
Tributary | At the confluence with Little Marsh Swamp | None | •171 | Robeson County (Unincorporated Areas).
| Approximately 2,750 feet upstream of State Road 20 | None | •182 |
Little Raft Swamp | At the confluence with Raft Swamp | None | •155 | Robeson County (Unincorporated Areas), Town of Red Springs.
| Approximately 100 feet upstream of Springside Road | None | •187 |
Little Swamp | At the confluence with Big Swamp | None | •100 | Robeson County (Unincorporated Areas).
| Approximately 4,800 feet upstream of Singletary Church Road | None | •107 |
Little Ten Mile Swamp | At the confluence with Ten Mile Swamp | None | •145 | Robeson County (Unincorporated Areas).
| Approximately 850 feet upstream of McDuffie Crossing Road | None | •163 |
Long Branch (near City of Lumberton) | At the confluence with Big Swamp | None | •99 | Robeson County (Unincorporated Areas).
| Approximately 1.0 mile upstream of McKinnon Rollin Road | None | •113
Long Branch (near Town of Parkton) | At the confluence with Galberry Swamp | None | •149 | Robeson County (Unincorporated Areas).
| Approximately 1.5 miles upstream of Council Road | None | •169
Long Swamp | At the confluence with Richland Swamp | None | •194 | Robeson County (Unincorporated Areas).
| At County boundary | None | •208
Lumber River | Approximately 1.9 miles upstream of Willoughby Road | •96 | •95 | Robeson County (Unincorporated Areas), City of Lumberton.
| Approximately 0.4 mile downstream of NC 72 | •112 | •111
McGregor Branch | At the confluence with Shoe Heel Creek | None | •124 | Robeson County (Unincorporated Areas).
| Approximately 0.4 mile upstream of Elsie Road | None | •151
McLeans Branch | At the confluence with Little Raft Swamp | None | •171 | Robeson County (Unincorporated Areas), Town of Red Springs.
| Approximately 0.4 mile upstream of State Route 71 | None | •204
McLeod Mill Branch | At the confluence with Ashpole Swamp | None | •98 | Robeson County (Unincorporated Areas).
| Approximately 1,800 feet downstream of Butler Road | None | •132
McLeod Mill Branch | At the confluence with McLeod Mill Branch | None | •103 | Robeson County (Unincorporated Areas).
Tributary | Approximately 0.74 mile upstream of the confluence with McLeod Mill Branch | None | •111
McRae Branch | At the confluence with Shoe Heel Creek | None | •137 | Robeson County (Unincorporated Areas).
| Approximately 0.6 mile upstream of U.S. Route 501 | None | •169
Mercer Branch | At the confluence with Little Marsh Swamp | None | •133 | Robeson County (Unincorporated Areas).
| Approximately 1,200 feet upstream of Interstate 95 | None | •167
Middle Branch | At the confluence with Wilkinson Creek | None | •131 | Robeson County (Unincorporated Areas).
| Approximately 850 feet upstream of McLeod Drive | None | •164
Mill Branch (near Town of Fairmont) | At the confluence with Ashpole Swamp | None | •85 | Robeson County (Unincorporated Areas).
| Approximately 1,700 feet upstream of White Pond Road | None | •103
Mill Branch (near City of Lumberton) | At the confluence with Raft Swamp | None | •137 | Robeson County (Unincorporated Areas).
| Approximately 0.47 mile upstream of East 4th Avenue | None | •154
Mirey Branch | At the confluence with Big Marsh Swamp | None | •161 | Robeson County (Unincorporated Areas).
| Approximately 2,000 feet upstream of the confluence with Big Marsh Swamp | None | •167
Mitchell Swamp | At the State boundary | None | •111 | Robeson County (Unincorporated Areas).
| Approximately 1,800 feet downstream of Viper Lane | None | •151
Mitchell Swamp | At the confluence with Mitchell Swamp | None | •119 | Robeson County (Unincorporated Areas), Town of Rowland.
Tributary | Approximately 0.89 mile upstream of the confluence with Mitchell Swamp | None | •129
Moss Neck Swamp | At the upstream side of Moss Neck Road | None | •144 | Robeson County (Unincorporated Areas).
| Approximately 0.6 mile upstream of North Chicken Road | None | •162
Old Field Branch | At the confluence with Ten Mile Swamp | None | •134 | Robeson County (Unincorporated Areas).
| Approximately 2,800 feet upstream of the confluence with Ten Mile Swamp | None | •139
Old Field Swamp | At the confluence with Hog Swamp | None | •86 | Robeson County (Unincorporated Areas), Town of Fairmont.
| Approximately 150 feet downstream of Interstate 95 | None | •135
Tributary | At the confluence with Old Field Swamp | None | •103 | Robeson County (Unincorporated Areas).
| Approximately 500 feet upstream of CSX Transportation | None | •127
Old Hill Branch | At the confluence with Hog Swamp | None | •93 | Robeson County (Unincorporated Areas).
| Approximately 1,300 feet upstream of the confluence with Hog Swamp | None | •95
Panther Branch | At the confluence with Richland Swamp | None | •154 | Robeson County (Unincorporated Areas).
| Approximately 1,650 feet upstream of Old Lowry Road | None | •201
Pittman Mill Branch | At the confluence with Old Field Swamp | None | •92 | Robeson County (Unincorporated Areas), Town of Fairmont.
| Approximately 0.42 mile upstream of Pittman Street | None | •113
Raft Swamp | Approximately 0.5 mile upstream of the confluence with the Lumber River | •124 | •123 | Robeson County (Unincorporated Areas).
| At the downstream County boundary | None | •182
Reedy Branch | At the confluence with Old Field Swamp | None | •111 | Robeson County (Unincorporated Areas).
| Approximately 0.72 mile upstream of the confluence with Old Field Swamp | None | •121
Richland Swamp | At the confluence with Raft Swamp | None | •133 | Robeson County (Unincorporated Areas).
| Approximately 0.47 mile upstream of Mt. Zion Church Road | None | •210
Saddletree Swamp | Approximately 1,250 feet upstream of McDuffie Crossing Road | None | •155 | Robeson County (Unincorporated Areas).
| Approximately 0.8 mile upstream of McDuffie Crossing Road | None | •158
Tributary | At the upstream side of Mt. Moriah Church Road | None | •144 | Robeson County (Unincorporated Areas), City of Lumberton.
| Approximately 500 feet upstream of West Powersville Road | None | •147
Scotts Mill Branch | At the confluence with Ashpole Swamp | None | •105 | Robeson County (Unincorporated Areas).
| Approximately 0.63 mile downstream of U.S. Route 301 | None | •134
Shoe Heel Creek | At State boundary | None | •114 | Robeson County (Unincorporated Areas), Town of Maxton.
| At Scotland/Robeson County boundary | None | •164
Short Swamp | At the confluence with Wilkinson Creek | None | •129 | Robeson County (Unincorporated Areas).
| Approximately 100 feet downstream of Cabinet Shop Road | None | •140
Ten Mile Swamp | At the confluence with Big Swamp | None | •116 | Robeson County (Unincorporated Areas).
| Approximately 1,450 feet upstream of McDuffie Crossing Road | None | •162
Tributary | At the confluence with Ten Mile Swamp | None | •127 | Robeson County (Unincorporated Areas).
| Approximately 1,050 feet upstream of East Powersville Road | None | •137
Thick Branch | At the confluence with Ten Mile Swamp | None | •126 | Robeson County (Unincorporated Areas).
| Approximately 1,400 feet upstream of Indian Heritage Road | None | •133
Town Ditch | At the confluence with Mitchell Swamp | None | •119 | Robeson County (Unincorporated Areas), Town of Rowland.
| Approximately 0.9 mile upstream of the confluence with Mitchell Swamp | None | •129
Underpass Overland | At the confluence with Collection Canal | •114 | •119 | City of Lumberton.
North | At the confluence with Underpass Overland South | None | •119
South | At the confluence with Cotton Mill Branch | None | •118 | City of Lumberton.
| Approximately 150 feet upstream of Interstate 95 | None | •124
Watering Hole Swamp | At the confluence with Wilkinson Creek | None | •135 | Robeson County (Unincorporated Areas).
| Approximately 50 feet downstream of O'Quinn Road | None | •167
White Oak Branch | At the confluence with Raft Swamp | None | •129 | Robeson County (Unincorporated Areas).
| Approximately 2,250 feet upstream of Oak Grove Church Road | None | •148
White Oak Swamp | At the confluence with Big Swamp | None | •110 | Robeson County (Unincorporated Areas).
| Approximately 1,100 feet upstream of Howell Road | None | •135
Wildcat Branch | At the confluence with Ten Mile Swamp | None | •116 | Robeson County (Unincorporated Areas).
| Approximately 2,200 feet upstream of Smith Mill Road | None | •132
Wilkinson Creek | At the confluence with Shoe Heel Creek | None | •117 | Robeson County (Unincorporated Areas).
| Approximately 450 feet downstream of O'Quinn Road | None | •167
Tributary | At the confluence with Wilkinson Creek | None | •122 | Robeson County (Unincorporated Areas)
| Approximately 1.5 miles upstream of Gaddy's Mill Road | None | •154
Town of Fairmont
Maps available for inspection at the Fairmont Town Hall, 421 South Main Street, Fairmont, North Carolina.
Send comments to The Honorable Nedward Gaddy, Mayor of the Town of Fairmont, Municipal Building, Box 248, Fairmont, North Carolina 28340.
Town of Lumber Bridge
Maps available for inspection at the Lumber Bridge Town Hall, 101 Railroad Street, Lumber Bridge, North Carolina.
Send comments to The Honorable William L. Davis, Mayor of the Town of Lumber Bridge, P.O. Box 91, Lumber Bridge, North Carolina 28357.
City of Lumberton
Maps available for inspection at the City of Lumberton Planning Department, 501 East 5th Street, Lumberton, North Carolina.
Send comments to The Honorable Ray B. Pennington, Mayor of the City of Lumberton, P.O. Box 1388, Lumberton, North Carolina 28359.
Town of Maxton
Maps available for inspection at the Maxton Town Hall, 201 McCaskill Street, Maxton, North Carolina.
Send comments to The Honorable Lillie A. McKoy, Mayor of the Town of Maxton, 201 McCaskill Street, Maxton, North Carolina 28364.
Town of Parkton
Maps available for inspection at the Parkton Town Hall, 28 West Second Street, Parkton, North Carolina.
Send comments to The Honorable Tim Parnell, Mayor of the Town of Parkton, P.O. Box 55, Parkton, North Carolina 28371.
Town of Proctorville
Maps available for inspection at the Proctorville Town Hall, Corner of Carolina & Main Street, Proctorville, North Carolina.
Send comments to The Honorable Hal D. Ivey, Mayor of the Town of Proctorville, P.O. Box 190, Proctorville, North Carolina 28375.
Town of Red Springs
Maps available for inspection at the Red Springs Town Hall, 217 South Main Street, Red Springs, North Carolina.
Send comments to The Honorable George T. Paris, Mayor of the Town of Red Springs, 217 South Main Street, Red Springs, North Carolina 28377.
Robeson County (Unincorporated Areas)
Maps available for inspection at the Robeson County Inspections & Zoning Office, 415 Country Club Drive, Lumberton, North Carolina.
Send comments to Mr. Kenneth Windley, Jr., Robeson County Manager, County Administration Building, 701 North Elm Street, Lumberton, North Carolina 28358.
Town of Rowland
Maps available for inspection at the Rowland Town Hall, 202 West Main Street, Rowland, North Carolina.
Send comments to The Honorable Harris McCall, Mayor of the Town of Rowland, P.O. Box 127, Rowland, North Carolina 28383.
NORTH CAROLINA
Town of St. James, Brunswick County
Atlantic Ocean | Approximately 500 feet north of the intersection of Glenscare Lane SE and Pinecrest Drive SE | None | •11 | Town of St. James
| Approximately 1,000 feet south of the intersection of Marshwood Court and Marshpoint Road | •13 | •11
Town of St. James
Maps available for inspection at the St. James Town Hall, 3628 St. James Drive, Southport, North Carolina.
Send comments to The Honorable Leonard B. Harmon, Mayor of the Town of St. James, 3628 St. James Drive, Southport, North Carolina 28461.

(Catalog of Federal Domestic Assistance No. 83.100, “Flood Insurance.”)

Dated: March 3, 2004.
Anthony S. Lowe,
Mitigation Division Director, Emergency Preparedness and Response Directorate.

[FR Doc. 04-5245 Filed 3-8-04; 8:45 am]

BILLING CODE 9110-12-P